SMALL BUSINESS ADMINISTRATION

[Disaster Declaration #12513]

California Disaster #CA-00170 Declaration of Economic Injury

AGENCY: U.S. Small Business Administration.

ACTION: Amendment 1.

SUMMARY: This is an amendment to the Economic Injury Disaster Loan (EIDL) declaration for the State of California, dated 03/31/2011.

Incident: Salmon Fishery Closure 2010 Season.

Incident Period: 04/10/2010 through 09/30/2010.

Effective Date: 05/04/2011.

EIDL Loan Application Deadline Date: 01/03/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrator's economic injury disaster declaration in the State of California, dated 03/31/2011, is hereby amended to include the following areas as adversely affected by the Salmon Fishery Closure 2010 Season.

Primary Counties: Alameda, Sacramento.

Contiguous Counties: California: Amador, Contra Costa, El Dorado, Placer, San Joaquin, Sutter, Yolo.

All other information in the original declaration remains unchanged.

(Catalog of Federal Domestic Assistance Number 59002)

Dated: May 4, 2011.
Karen G. Mills,
Administrator.

[FR Doc. 2011-11659 Filed 5-11-11; 8:45 am]

BILLING CODE 8025-01-P